DEPARTMENT OF STATE

[Public Notice 6712]

Notice of Meeting of a Study Group of the U.S. Department of State Advisory Committee on Private International Law

A Study Group of the Department of State Advisory Committee on Private International Law (ACPIL) will be holding a public meeting to continue the discussion of the treatment of IP-secured financing practices in the United Nations Commission on International Trade (UNCITRAL) Draft Legislative Guide on Secured Transactions (Guide). At the 40th Session of the UNCITRAL in December 2007, it adopted a legislative guide on secured transactions, including recommendations dealing with the scope of the Guide as it relates to IP law and secured financing, as well as the inclusion in the commentary to the Guide of explanatory statements on the treatment of IP as secured financing. UNCITRAL also approved a work project on IP law matters as they relate to secured financing law. Earlier sessions for that work project were held in May and October of 2008 and April and May 2009. A fourth session of the IP work project is scheduled in November 2009 in Vienna.

The Study Group will use this public meeting to continue to exchange thoughts on the relationship between secured finance and IP and how this matter should be addressed in the new draft IP annex to the Guide. The report of the first two sessions of the working group and the papers prepared by the Secretariat for the next session of the UNCITRAL working group can be obtained at http://www.uncitral.org/uncitral/en/commission/working_groups/6Security_Interests.html.

Time: The public meeting will take place at the Department of State, Office of Private International Law, 2430 E Street, NW., Washington, DC on Wednesday, October 21, from 9:30 a.m. to 11:30 a.m. EST.

Public Participation: This Study Group meeting is open to the public, subject to the capacity of the meeting room. Access to the meeting building is controlled; persons wishing to attend should contact Tricia Smeltzer or Niesha Toms of the Department of State Legal Adviser's Office at SmeltzerTK@state.gov or TomsNN@state.gov and provide your name, e-mail address, and mailing address to get admission into the meeting or to get directions to the office. Persons who cannot attend but who wish to comment are welcome to do so by e-mail to Michael Dennis at DennisMJ@state.gov. A member of the public needing reasonable accommodation should advise those same contacts not later than October 12th. Requests made after that date will be considered, but might not be able to be fulfilled. If you are unable to attend the public meeting and you would like to participate by teleconferencing, please contact Tricia Smeltzer or Niesha Toms at 202-776-8420 to receive the conference call-in number and the relevant information.

Dated: October 6, 2009.
Michael J. Dennis,
Attorney-Adviser, Office of Private International Law, U.S. Department of State.

[FR Doc. E9-24694 Filed 10-13-09; 8:45 am]

BILLING CODE 4710-08-P